DEPARTMENT OF THE INTERIOR

Fish and Wildlife Service

[Docket No.

Aquatic Nuisance Species Task Force Northeast Regional Panel Meeting

AGENCY: Fish and Wildlife Service, Interior.

ACTION: Notice of meeting.

SUMMARY: This notice announces meeting of the Aquatic Nuisance Species (ANS) Task Force Northeast Regional Panel. The meeting topics are identified in the SUPPLEMENTARY INFORMATION.

DATES: The Northeastern Regional Panel will meet from 1:00 p.m. to 5:00 p.m. on Tuesday, May 7, 2002, and 8:30 a.m. to 5:00 p.m., Wednesday, May 8, 2002.

ADDRESSES: The Northeast Regional Panel meeting will be held at the Quality Inn and Suites, 1380 Putney Road, Brattleboro, Vermont 05301. Phone 802-254-8701.

FOR FURTHER INFORMATION CONTACT: Susan Snow-Cotter, 617-626-1202 or Sharon Gross, Executive Secretary, Aquatic Nuisance Species Task Force at 703-358-2308.

SUPPLEMENTARY INFORMATION: Pursuant to section 10(a)(2) of the Federal Advisory Committee Act (5 U.S.C. App. I), this notice announces meetings of the Aquatic Nuisance Species Task Force Northeast Regional Panel. The Task Force was established by the Nonindigenous Aquatic Nuisance Prevention and Control Act of 1990.

The Northeast Regional Panel was established on July 25, 2001 to advise and make recommendations to the Aquatic Nuisance Species Task Force on issues relating to the Northeast region of the United States. Geographically, the Northeast region is defined to include the jurisdictions of the states of Maine, New Hampshire, Vermont, Massachusetts, Rhode Island, Connecticut, and New York. The Northeast Regional Panel will discuss several topics at this meeting including: membership of the Panel, updates from the Coastal and Inland subcommittees, updates from the Aquatic Nuisance Species Task Force and Invasive Species Council on national issues, reauthorization of the National Invasive Species Act, updates on the development of State ANS Plans, findings and management recommendations from the ANS Vector Study, and other topics.

Minutes of the meeting will be maintained by the Executive Secretary, Aquatic Nuisance Species Task Force, Suite 810, 4401 North Fairfax Drive, Arlington, Virginia 22203-1622, and will be available for public inspection during regular business hours, Monday through Friday.

Dated: March 27, 2002.
Cathleen I. Short,
Co-chair, Aquatic Nuisance Species Task Force, Assistant Director—Fisheries & Habitat Conservation.

[FR Doc. 02-8068 Filed 4-2-02; 8:45 am]

BILLING CODE 4310-55-M